ENVIRONMENTAL PROTECTION AGENCY

40 CFR Part 52

[MO 0125-1125; IL 196-3; FRL-6968-7]

Approval and Promulgation of Implementation Plans; Missouri and Illinois; One-Hour Ozone Attainment Demonstrations, Reasonably Available Control Measures (RACM), and Contingency Measures

AGENCY: Environmental Protection Agency (EPA).

ACTION: Supplemental proposed rule.

SUMMARY: On April 3, 2001, Environmental Protection Agency (EPA) proposed several actions for the St. Louis ozone nonattainment area. In that supplemental proposed rule, we noted that EPA would issue a separate proposal addressing how the St. Louis nonattainment area meets the respective requirements pertaining to the implementation of RACM and contingency measures under sections 172(c)(1) and 172(c)(9) of the Clean Air Act (CAA or the Act). In today's supplemental proposed rule, we are proposing to find that Missouri and Illinois have met the RACM requirements of the CAA and are proposing to find that the contingency measures identified by the states are adequate to meet the requirements of the Act. We are also proposing to approve the contingency measures implementation plan submitted by Missouri.

DATES: Written comments must be received on or before May 21, 2001.

ADDRESSES: Written comments should be mailed to: J. Elmer Bortzer, Chief, Regulation Development Section, Air Programs Branch (AR-18J), U.S. Environmental Protection Agency, 77 West Jackson Boulevard, Chicago, Illinois 60604; or Wayne Leidwanger, Chief, Air Planning and Development Branch, U.S. Environmental Protection Agency, 901 North 5th Street, Kansas City, Kansas 66101.

Copies of the docket are available at the following addresses for inspection during normal business hours: U.S. Environmental Protection Agency, Region 5, Air and Radiation Division, 77 West Jackson Boulevard, Chicago, Illinois 60604 (please telephone Patricia Morris at (312) 353-8656 before visiting the Region 5 office); or U.S. Environmental Protection Agency, Region 7, Air, RCRA, and Toxics Division, 901 North 5th Street, Kansas City, Kansas 66101.

FOR FURTHER INFORMATION CONTACT: Patricia Morris, Regulation Development Section, Air Programs Branch (AR-18J), U.S. Environmental Protection Agency, Region 5, 77 West Jackson Boulevard, Chicago, Illinois 60604, Telephone Number (312) 353-8656, E-Mail Address: morris.patricia@epa.gov; or Lynn Slugantz, Air Planning and Development Branch, U.S. Environmental Protection Agency, Region 7, 901 North 5th Street, Kansas City, Kansas 66101, Telephone Number (913) 551-7883, E-Mail Address: slugantz.lynn@epa.gov.

SUPPLEMENTARY INFORMATION: Throughout this document whenever “we, us, or our” is used, we mean EPA. This section provides additional information by addressing the following questions:

Background and Submittal Information

• What is the scope of this proposed rule?

• What are the requirements for RACM under section 172(c)(1) of the CAA?

• How do the Missouri and Illinois SIPs for the St. Louis area address the RACM requirements?

• What are the requirements for contingency measures under section 172(c)(9) of the CAA?

• How do the Missouri and Illinois SIPs for the St. Louis area address the contingency measure requirements?

EPA's Proposed Actions

• Do the Missouri and Illinois SIPs meet the RACM and contingency measure requirements?

• What actions are we proposing today?

Background and Submittal Information

• What is the scope of this proposed rule?

This supplemental proposal addresses how Missouri and Illinois have addressed the RACM requirements of the CAA and the contingency measure requirements. Written comments on the issues discussed in this proposal may be submitted during the next 30 days. Although these requirements are separate from the approvability of the attainment demonstration, we will respond to any written comments on the issues discussed in this proposal in our final action on the Missouri and Illinois ozone St. Louis attainment demonstrations.

• What are the requirements for RACM under section 172(c)(1) of the CAA?

Section 172(c)(1) of the Act requires that SIPs provide for the implementation of all RACM as expeditiously as practicable. EPA has previously provided guidance interpreting the RACM requirements of 172(c)(1). (See 57 FR 13498, 13560.) In that guidance, EPA indicated its interpretation that potentially available measures that would not advance the attainment date for an area would not be considered RACM. EPA concluded that a measure would not be reasonably available if it would not advance attainment. EPA also indicated in that guidance that states should consider all potentially available measures to determine whether they were reasonably available for implementation in the area, and whether they would advance the attainment date. Further, states should indicate in their SIP submittals whether measures considered were reasonably available or not. If measures are deemed reasonably available, they must be adopted as RACM. Finally, EPA indicated that states could reject potential RACM measures either because they would not advance the attainment date, would cause substantial widespread and long-term adverse impacts, or for various reasons related to local conditions, such as economics or implementation concerns. EPA also issued a recent memorandum on this topic confirming its earlier guidance, “Guidance on the Reasonably Available Control Measures (RACM) Requirement and Attainment Demonstration Submissions for Ozone Nonattainment Areas,” John S. Seitz, Director, Office of Air Quality Planning and Standards, November 30, 1999. Web site: http://www.epa.gov/ttn/oarpg/t1pgm.html.

• How do the Missouri and Illinois SIPs for the St. Louis area address the RACM requirements?

Missouri

Section 3.0 of Missouri's November 1999 15% Rate-of-Progress Plan (ROPP), which was approved by EPA on May 18, 2000 (65 FR 31485),¹ is dedicated to the evaluation of potential control measures. The state considered an extensive list of potential control measures and has documented the measures which are not practicable based on considerations such as cost effectiveness and enforceability. Some examples of control measures that were not selected for implementation include rule effectiveness improvements, limits on volatile organic compound (VOC) content of pesticides, limits on VOC emissions from wineries and micro breweries, and various transportation control measures (TCM). Based on reviews of the state's analysis of additional measures and lists of control measures which have been implemented in other nonattainment areas, EPA believes that there are no other measures that Missouri could have implemented that would have substantially accelerated achievement of the target level of VOC emissions for the state's ROPP. EPA is not aware of other practicable measures which will result in comparable emissions reductions that can be implemented sooner than those contained in Missouri's ROPP.

¹ A petition for review of EPA's approval is pending in the 8th Circuit of the U.S. Court of Appeals in Sierra Club v. EPA, No. 00-2744.

Illinois

In a June 30, 1995, submittal,² initially intended as an update to the state's attainment demonstration, Illinois stated, “In adopting these measures, the State has demonstrated our commitment to seek all reasonable volatile organic compound (VOC) reduction measures that can be applied in that area [metro-east St. Louis] * * *.” ³ Illinois considered a number of measures for point, area and mobile sources. Illinois went beyond the CAA requirements for moderate areas by implementing an enhanced inspection and maintenance (I/M) program and improved rule effectiveness on stationary sources. Illinois held a public hearing on December 21, 1994, on these materials and took public comment on the modeling and conclusions. In the documentation materials, Illinois states “Additional control of local emission sources, if implemented, would provide only marginal air quality improvements, and at significantly greater expense. All practicable controls have been, or will soon be, implemented.”

² The state has since submitted revisions to its attainment demonstration which were the subject of proposed rulemakings published on April 17, 2000, and April 3, 2001. (65 FR 20404 and 66 FR 17647, respectively.)

³ The measures to which the statement refers are control measures the state determined to be necessary to attain the ozone NAAQS through air quality modeling.

In addition, Illinois submitted documentation on VOC reduction measures which the state implemented in conjunction with its 15% ROPP. These measures resulted in emissions reductions beyond those required to meet the state's rate-of-progress obligations under section 182(b)(1)(A) of the CAA. Under this provision of the Act, the state was obligated to achieve VOC emissions reductions of 26.66 tons per day (TPD). Accounting for a separate requirement to implement contingency control measures (to be implemented if the area failed to achieve reasonable further progress), which would achieve further VOC reductions of 3 percent of the adjusted base year requirement or 4.96 TPD, the total reduction required was 31.62 TPD. Illinois' ROPP, which was approved by EPA on December 18, 1997 (62 FR 66279), included emissions reductions of 38.12 TPD. A number of TCMs were included as implemented measures which contributed 0.2 TPD reduction. The TCM selection process has been documented by the East-West Gateway Coordinating Council (EWGCC), St. Louis' metropolitan planning organization (MPO), in its report, “Transportation Control Measures Completion Report” dated February 1998. A copy of that report can be found in the docket for this proposed rule or via the World Wide Web at http://www.ewgateway.org/trans/TransReadingRoom/transreadingroom.htm#Rpts.

EPA has performed an analysis to evaluate emission levels of oxides of nitrogen (NOX) and VOCs and their relationships to the application of current and anticipated control measures expected to be implemented in the Illinois portion of the St. Louis one-hour ozone nonattainment area. This analysis was done to determine if additional stationary source RACM are available after adoption of the CAA-required measures for this area. The analysis EPA conducted demonstrates that a number of possible stationary source emission control measures have been evaluated for their emission reductions. It further demonstrates that the measures evaluated would not advance the attainment date for the area, and therefore would not be considered RACM under the Act. Based on this analysis which is contained in the docket and available for public review, EPA concluded these measures would not advance the attainment date in the area and therefore are not considered RACM. The VOC and NOX controls potentially available are about 4.2 percent and 3.0 percent, respectively, of the total emissions reductions needed for attainment from 1990 to the 2004 attainment year in the entire nonattainment area.

EPA believes controls on these categories are not considered RACM. EPA reached this conclusion primarily because the reductions expected to be achieved by the potential RACM measures are relatively small, 9.2 tons per day of VOC and 8.4 tons per day of NOX for stationary sources, as compared to the emissions reductions needed within the nonattainment area to reach attainment.

Missouri and Illinois

EWGCC, the MPO for St. Louis, in conjunction with the Illinois and Missouri air quality agencies, evaluated TCMs for implementation in the St. Louis area. In 1993, Apogee Research Inc., prepared a report entitled, “St. Louis Region TCM Analysis.” This report identified a number of TCMs which had the potential to be implemented before 1997 and which could be expected to result in significant air quality benefits. Each TCM was evaluated in terms of its emission reduction benefits and its cost effectiveness. All of the short-term measures suggested in the report were endorsed by the Council, subject to funding and, where necessary, legislative changes. These measures included: activity center based trip reduction; areawide ridesharing; work trip reduction; transit improvements; signal timing; intersection improvements; incident management; traffic flow improvements; and a Missouri fuel tax increase. These TCMs were identified in both the Missouri and Illinois ROPPs which EPA has approved. The emissions reductions associated with these measures were estimated to be 2.06 TPD for Missouri and 0.29 TPD for Illinois and were to be achieved by 1997.

In addition to the TCMs in the SIP, other TCMs were identified and implemented that were not credited in the SIP. These include: bus replacement; bicycle transportation program; bicycle facilities for transit; bikeway or bike trail; bike and pedestrian way; transportation management association; and demand management. The calculated benefits from these TCMs however, were small in terms of emission reductions. The February 1998 document Transportation Control Measures Completion Report gives a status report on the implementation and effectiveness of the TCMs from the Apogee report that were implemented in the St. Louis area. One of the more effective TCMs was the Metrolink which opened in 1994 with a recorded 7 million riders during 1994, and expanded to 14 million riders by 1997.

The TCMs identified in these reports are all the potential TCMs that were considered reasonably available. These types of TCMs have continued to be implemented and reductions estimated for future years. Many of the TCMs have been funded with money from the Congestion Mitigation and Air Quality program funds. There are no additional TCM measures identified as RACM that can advance the attainment date.

In addition, the St. Louis nonattainment area relies in part on reductions from outside the nonattainment area from EPA's NOX SIP call or section 126 rule (65 FR 2674, January 18, 2000) to reach attainment. In the NOX SIP call (63 FR 57356), EPA concluded that reductions from various upwind states were necessary to provide for timely attainment of the ozone standard in various downwind states, including in Missouri and Illinois. The NOX SIP call therefore established requirements for control of sources of significant emissions in all upwind states. However, these reductions are not slated for full implementation until May 2004.

The Missouri and Illinois attainment demonstrations for the St. Louis nonattainment area indicate that the ozone benefit expected to be achieved from regional NOX reductions (such as the NOX SIP call) are substantial. (See the attainment demonstrations in the docket.) Therefore, EPA concludes, based on the available documentation, that since the reductions from potential RACM measures do not nearly equate to the reductions needed to demonstrate attainment, none of the potential RACM measures could advance the attainment date prior to full implementation of NOX emission control rules in 2004 and implementation by 2004 of all local measures already included in the states' ozone attainment demonstrations, and thus none of these potential measures can be considered RACM.

Furthermore, both states have submitted air quality modeling results which show that additional VOC and NOX controls within the nonattainment area will not accelerate attainment of the national ambient air quality standard (NAAQS) for ozone. The previously discussed, June 30, 1995, air quality modeling included the results of various “sensitivity” analyses.⁴ In these analyses, Illinois and Missouri tested the air quality benefits (with respect to ozone concentrations) of further VOC and NOX reductions within the nonattainment area. Relative to their 1996 nonattainment area emissions inventories, the states tested the impacts of: (1) reducing VOC by 30 percent; (2) reducing NOX by 30 percent; and (3) reducing both VOC and NOX by 30 percent. The results of that modeling showed that reductions of these magnitudes would not accelerate attainment of the ozone standard. It was only when the states tested the impacts of VOC and NOX reductions beyond boundaries of the nonattainment area that the modeling indicated improvements in air quality to the degree necessary to attain the standard. In other words, the transport of ozone and precursor emissions from upwind areas significantly contribute to St. Louis' nonattainment problem. Air quality modeling which EPA performed in association with the NOX SIP call (63 FR 57356) confirmed the states' analyses. This conclusion has been expressed in previous rulemakings pertaining to the St. Louis area as the basis for proposing to extend the area's attainment date (66 FR 17647).

⁴ Although the attainment modeling for the St. Louis area has been revised since the 1995 submittal, EPA believes the sensitivity analyses are still valid.

Based on the information presented above, EPA believes the states have identified and implemented all RACM. Any additional measures would be unlikely to achieve the levels of local precursor emissions reductions needed to have a significant impact on ozone concentrations and hence accelerate attainment. Furthermore, the states and EPA have demonstrated that reductions in upwind emissions are necessary for attainment of the standard, and that these upwind emission reductions provide a significantly greater improvement in local peak ozone concentrations than do available local emission reductions.

• What are the requirements for contingency measures under section 172(c)(9) of the CAA?

Section 172(c)(9) of the Act requires SIPs to contain additional measures that will take effect without further action by the state or EPA if an area fails to attain the standard by the applicable date. The CAA does not specify how many contingency measures are needed or the magnitude of emissions reductions that must be provided by these measures. However, EPA provided guidance interpreting the control measure requirements of 172(c)(1) in the April 16, 1992, General Preamble for Implementation of the Clean Air Act Amendments (CAAA) of 1990. (See 57 FR 13498, 13510.) In that guidance, EPA indicated that states with moderate and above ozone nonattainment areas should include sufficient contingency measures so that, upon implementation of such measures, additional emissions reductions of up to 3 percent of the emissions in the adjusted base year inventory (or such lesser percentage that will cure the identified failure) would be achieved in the year following the year in which the failure has been identified. States must show that their contingency measures can be implemented with minimal further action on their part and with no additional rulemaking actions such as public hearings or legislative reviews. The additional 3 percent reduction would ensure that progress toward attainment occurs at a rate similar to that specified under the reasonable further progress requirements for moderate areas (i.e., 3 percent per year), and that the state will achieve these reductions while conducting additional control measure development and implementation as necessary to correct the shortfall in emissions reductions.

EPA has also determined that Federal measures can be used to analyze whether the contingency measure requirements of section 179(c)(9) have been met. While these measures are not SIP-approved contingency measures which would apply if an area fails to attain, EPA believes that existing Federally enforceable measures can be used to provide the necessary substantive relief. Therefore, Federal measures may be used in the analysis, to the extent that the attainment demonstration does not rely on them or take credit for them. (See, e.g., 66 FR 586, 615 (January 3, 2001).)

• How do the Missouri and Illinois SIPs for the St. Louis area address the contingency measure requirements?

Missouri

Calculation of Missouri's total 1990 adjusted base year inventory for VOC emissions for the Missouri portion of the nonattainment area is detailed in EPA's February 7, 2000, technical support document for Missouri's 15% ROPP, which we approved on May 18, 2000 (65 FR 31485). Missouri's 1990 adjusted base year inventory of VOC emissions is 315.70 TPD. Per EPA's guidance, Missouri's contingency measures must achieve VOC reductions equivalent to 3 percent of the adjusted base year inventory, or 9.47 TPD.

The Missouri Department of Natural Resources (MDNR) submitted a Contingency Plan for the St. Louis ozone nonattainment area in October 1997. In that submittal, MDNR reviewed various control measures and proposed two contingency measures, implementation of a state rule regulating the use of solvents for metal cleaning, and implementation of a Federal rule limiting emissions from small gasoline powered engines. State rule 10 CSR 10-5.300, “Control of Emissions from Solvent Metal Cleaning,” was adopted by the Missouri Air Conservation Commission (MACC) on February 3, 1998, and approved by EPA on May 18, 2000, 65 FR 31485. It is projected to reduce VOC emissions in the nonattainment area by 9.0 TPD. The Federal small engine rule was projected to reduce VOC emissions in the nonattainment area by 1.22 TPD. However, a part of the reductions resulting from the solvent metal cleaning rule (0.64 TPD) and all of the reductions resulting from the Federal small engine standards rule (1.22 TPD) were accounted for in EPA's approval of Missouri's 15% ROPP, leaving a balance of 8.36 TPD of reductions from these two measures that remained creditable toward the state's obligation to provide measures that could reduce emissions by 9.47 TPD. This created a shortfall of 1.11 TPD with respect to the contingency measure requirement. MDNR has addressed this shortfall by submitting a supplement to its contingency plan. On April 5, 2001, Missouri submitted an analysis of the VOC reductions that will be achieved through the implementation of the Federal Tier 2/low sulfur gasoline rule during 2005 and 2006.⁵

⁵ This is the period in which the requirement to implement contingency measures would be triggered and the reductions achieved.

Based on MDNR's analysis, implementation of the Tier 2/low sulfur gasoline rule will result in VOC emissions reductions of 1.59 TPD during this period. Implementation of Missouri's revised Contingency Plan which includes the state's metal cleaning rule and substitutes the Federal Tier 2/low sulfur gasoline rule for the small engine standards rule, would result in emissions reductions of 10.59 TPD. Subtracting out the 0.64 TPD previously applied to Missouri's 15% ROPP, the state's revised Contingency Plan provides for VOC emissions reductions of 9.95 TDP which exceeds the required reductions of 9.47 TPD.

Illinois

Illinois has identified surplus emission reductions that occur thru the year 2006 that are available as contingency measure reductions. These contingency measure reductions are not the same reductions as were approved as contingency measures for the 15% Plan for Illinois (62 FR 37494). The contingency measure reductions approved at that time were implemented by 1998 and were included in the most recent attainment demonstration modeling for the St. Louis area. Thus, these measures have already been “used” to demonstrate attainment. Contingency measures for the ozone attainment demonstration must be above and beyond (or surplus to) the measures that were modeled in the attainment demonstration or used to show attainment of the one-hour ozone standard. Illinois also submitted an updated emission inventory in support of a 2004 attainment date in connection with its attainment demonstration. The reductions listed here have been reviewed for their applicability as contingency measures surplus to any previous reductions or crediting.

The total amount of reduction needed for Illinois to meet the contingency measure requirement in the Metro-East St. Louis nonattainment area is 3 percent of the adjusted base year emissions inventory or 4.96 TPD. The control measures to achieve the required reductions are listed in the following table:

Illinois Contingency Measure Reductions
Control measure | Reduction (TPD)
Mobile Source Measures * | 1.61
Tier 2/Low Sulfur Fuel Program | 0.08
On-Board Diagnostics (OBD) | 2.86
Non-Road Engine Standards | 1.99
Total | 6.54
* This is the difference between estimated emissions in the Metro-East area in 2004 (27.51 TPD) and those in 2006 (25.90 TPD) calculated using MOBILE5b.

Illinois is relying on a number of Federal rules to serve as contingency measures. The mobile source measures consist of incremental reductions from the Federal motor vehicle control program and other measures already in place. In addition, several other Federal measures are relied upon which include the OBD rule, the Non-Road Engine Standards, and the Tier 2/low sulfur fuel rule. Illinois has documented the methodology for the calculations of the emission reductions and this material is available in the docket. The measures and the reduction calculations are summarized here.

The OBD test standards have already been adopted by Illinois in Title 35 Subtitle B subpart H Part 240. These rules required Illinois to begin OBD testing in its I/M program on January 1, 2001. However, on March 28, 2001, the EPA Administrator signed a final rulemaking to amend the vehicle I/M program requirements to incorporate a check of the OBD system and extend the date that states needed to comply until January 1, 2002. Implementation of this check during the already implemented I/M program in the Metro-East St. Louis area starting in January 2002 is estimated to result in the 2.86 TPD emissions reduction. Because Illinois did not include any OBD emissions reductions in its attainment demonstration emission estimates, the entire 2.86 TPD are creditable toward the contingency measures requirement.

The non-road engine standards apply to all sizes of non-road diesel engines. These engines include lawn and garden equipment, larger industrial equipment, marine engines, recreational vehicles, locomotives, and aircraft engines. The standards are phased in with Tier 2 standards from 2001-2006 and more stringent Tier 3 standards for larger engines from 2006-2008. The emissions reduction for the contingency measure is the difference between the 2004 estimated emissions and the 2006 estimated emissions (or 1.99 TPD). More detail on the emissions calculation is provided in the docket.

The Tier 2/low sulfur fuel rule promulgated by EPA begins to take effect in 2004. Illinois used EPA's MOBILE5 information sheet #8 to estimate reductions. The reduction listed in the table represents the difference between the 2006 estimate (0.97 TPD) and the 2004 estimate (0.89 TPD).

These reductions meet the criteria for reductions to be used as contingency measures. The measures are already adopted for implementation and will provide for specific emission control measures if the area fails to attain the ozone standard. The measures will take effect without any further action by the state or by the EPA Administrator. The reductions are surplus to the attainment demonstration. Therefore, EPA proposes to find that these measures meet the contingency measure requirements for the Illinois Metro-East St. Louis ozone area.

EPA's Proposed Actions

• Do the Missouri and Illinois SIPs meet the RACM and contingency measure requirements?

EPA has reviewed the submitted sensitivity analyses, the process used by the MPO to review and select TCMs, the states' evaluation of potential stationary source control measures, and the attainment year emissions inventories for the St. Louis area. While the CAA requires nonattainment areas to implement available RACM measures, EPA does not believe that section 172(c)(1) requires implementation of potential RACM measures that either require costly implementation efforts or that produce relatively small emissions reductions that will not accelerate attainment of the ozone standard.

Sensitivity modeling for the St. Louis moderate ozone area indicates that the ozone benefit expected to be achieved from regional NOX reductions (such as the NOX SIP call) are far greater than reductions that could be achieved by implementing the measures which have been rejected as RACM. Therefore, EPA believes that the reductions from such measures would not accelerate attainment of the ozone NAAQS.

In addition, EPA believes that both Missouri and Illinois have identified adequate contingency measures. In Missouri's case, implementation of its solvent cleaning rule, 10 CSR 10-5.300, will provide for emissions reductions of 8.36 TPD and implementation of the Federal Tier 2/low sulfur gasoline rule will provide for emissions reductions of 1.59 TPD for combined emissions reductions of 9.95 TPD which exceeds the required reductions of 9.47 TPD. In the case of Illinois, Illinois has identified emissions reductions of 6.54 TPD from OBD, Tier 2, Non-Road Engine Standards and other mobile source measures which exceed the required reductions of 4.96 TPD. Therefore, EPA believes that both Missouri and Illinois have identified contingency measures which will provide for a 3 percent reduction in VOC emissions from the 1990 adjusted base year inventory, as required by section 172(c)(9) of the CAAA.

What Actions Are We Proposing Today?

EPA is proposing to find that the St. Louis nonattainment area SIPs adequately provide for RACM and contingency measures. EPA is also proposing to approve the contingency measures SIP submitted by Missouri in October 1997, as supplemented by a letter dated April 5, 2001.

Administrative Requirements

Under Executive Order 12866 (58 FR 51735, October 4, 1993), this proposed action is not a “significant regulatory action” and therefore is not subject to review by the Office of Management and Budget. This proposed action merely approves state law as meeting Federal requirements and imposes no additional requirements beyond those imposed by state law. Accordingly, the Administrator certifies that this proposed rule will not have a significant economic impact on a substantial number of small entities under the Regulatory Flexibility Act (5 U.S.C. 601 et seq.). Because this rule proposes to approve preexisting requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the states, on the relationship between the national government and the states, or on the distribution of power and responsibilities among the various levels of government, as specified in Executive Order 13132 (64 FR 43255, August 10, 1999), because it merely approves a state rule implementing a Federal standard, and does not alter the relationship or the distribution of power and responsibilities established in the CAA. This proposed rule also is not subject to Executive Order 13045 (62 FR 19885, April 23, 1997), because it is not economically significant.

In reviewing SIP submissions, EPA's role is to approve state choices, provided that they meet the criteria of the CAA. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

List of Subjects 40 CFR Part 52

Environmental protection, Air pollution control, Carbon monoxide, Hydrocarbons, Incorporation by reference, Intergovernmental relations, Lead, Nitrogen dioxide, Ozone, Particulate matter, Reporting and recordkeeping requirements, Sulfur oxides.

Dated: April 12, 2001.
William A. Spratlin,
Acting Regional Administrator, Region 7.

[FR Doc. 01-9727 Filed 4-18-01; 8:45 am]

BILLING CODE 6560-50-U